DEPARTMENT OF ENERGY

Federal Energy Regulatory Commission

Privacy Act of 1974; System of Records

AGENCY: Federal Energy Regulatory Commission (FERC), Department of Energy (DOE).

ACTION: Rescindment of a system of records.

SUMMARY: Pursuant to the Privacy Act of 1974 and Office of Management and Budget (OMB) Circular No. A-108, the Federal Energy Regulatory Commission (Commission or FERC) proposes to rescind an existing system of records notice (SORN). Specifically, the following SORN is being proposed for rescindment “Commission Employee Performance Files (FERC—38)”. The basis for rescindment is explained below.

DATES: Comments on this rescindment notice must be received no later than 30 days after the date of publication in the Federal Register. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street NE, Washington, DC 20426 or electronically to privacy@ferc.gov. Comments should indicate that they are submitted in response to “Commission Employee Performance Files (FERC—38).”

FOR FURTHER INFORMATION CONTACT: Sidney Chapman, Director, Workforce Relations Division, Chief Human Capital Officer (CHCO), Office of the Executive Director, Federal Energy Regulatory Commission, 888 First Street NE, Washington, DC 20426, (202) 502-6475.

SUPPLEMENTARY INFORMATION: “Commission Employee Performance Files (FERC—38)” was identified for rescindment from FERC's Privacy Act systems of records inventory because the system of records is duplicative, and the records are covered by a government-wide System of Records Notice (SORN). OMB requires that each agency provide assurance that system of records do not duplicate any existing agency or government-wide system of records. The Commission is rescinding this SORN because the records are covered by OPM/GOVT-2, Employee Performance File System Records, 87 FR 5874 (February 2, 2022).

SYSTEM NAME AND NUMBER:

Commission Employee Performance Files (FERC-38).

HISTORY:

65 FR 21754 (April 24, 2000).

Dated: January 7, 2025.
Carlos D. Clay,
Acting Deputy Secretary.

[FR Doc. 2025-00575 Filed 1-13-25; 8:45 am]

BILLING CODE 6717-01-P